FEDERAL COMMUNICATIONS COMMISSION

[FR ID 198756]

Open Commission Meeting Thursday, January 25, 2024

January 18, 2024.

The Federal Communications Commission will hold an Open Meeting on the subjects listed below on Thursday, January 25, 2024, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Public Safety and Homeland Security | Title: Resilient Networks (PS Docket No. 21-346); Amendments to Part 4 of the Commission's Rules Concerning Disruptions to Communications (PS Docket No.15-80); New Part 4 of the Commission's Rules Concerning Disruptions to Communications (ET Docket No. 04-35).
|  | Summary: The Commission will consider a Report and Order and Further Notice of Proposed Rulemaking to ensure participation in, and enhance the use of, its Disaster Information Reporting System, where service providers report on their operational status during emergencies.
2 | Public Safety and Homeland Security | Title: Location-Based Routing for Wireless 911 Calls (PS Docket No. 18-64).
|  | Summary: The Commission will consider a Report and Order requiring wireless providers to implement location-based routing for wireless calls and real-time texts (RTT) to 911 in order to reduce misrouting and improve emergency response times.
3 | Space | Title: Mitigation of Orbital Debris in the New Space Age (IB Docket No. 18-313).
|  | Summary: The Commission will consider an Order on Reconsideration addressing the issues raised in three petitions for reconsideration filed in response to the Orbital Debris Mitigation Report and Order released in 2020 which comprehensively updated the Commission's existing rules regarding orbital debris mitigation.
4 | Media | Title: Restricted Adjudicatory Matter.
|  | Summary: The Commission will consider a restricted adjudicatory matter from the Media Bureau.
5 | Enforcement | Title: Enforcement Bureau Action.
|  | Summary: The Commission will consider an enforcement action.
6 | Enforcement | Title: Enforcement Bureau Action.
|  | Summary: The Commission will consider an enforcement action.
7 | Enforcement | Title: Enforcement Bureau Action.
|  | Summary: The Commission will consider an enforcement action.
8 | Enforcement | Title: Enforcement Bureau Action.
|  | Summary: The Commission will consider an enforcement action.
9 | Enforcement | Title: Enforcement Bureau Action.
|  | Summary: The Commission will consider an enforcement action.
10 | Wireless Tele-Communications | Title: Modernizing and Expanding Access to the 70/80/90 GHz Bands (WT Docket No. 20-133)
|  | Summary: The Commission will consider a Report and Order and Further Notice of Proposed Rulemaking that would adopt new rules and update preexisting rules for the 70/80/90 GHz bands. The item would authorize certain point-to-point links to endpoints in motion in the 70 GHz and 80 GHz bands for aeronautical and maritime use; provide for smaller, lower-cost antennas to facilitate backhaul service in those bands; and adopt changes to the link registration process. The item would also seek comment on the potential inclusion of Fixed Satellite Service earth stations in the light-licensing regime for the 70 GHz and 80 GHz bands.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2024-01520 Filed 1-25-24; 8:45 am]

BILLING CODE 6712-01-P